DEPARTMENT OF LABOR

Employment and Training Administration

[TA-W-73,458]

Chrysler Financial Services Americas, LLC, a Subsidiary of Finco Intermediate Holding Co., LLC, Troy Customer Contact Center, Troy, Michigan; Notice of Affirmative Determination Regarding Application for Reconsideration

By application dated September 3, 2010, the petitioner requested administrative reconsideration of the negative determination regarding workers' eligibility to apply for Trade Adjustment Assistance (TAA) applicable to workers and former workers of the subject firm. The determination was issued on July 23, 2010. The Department's Notice of Determination was published in the Federal Register on August 6, 2010 (75 FR 47635).

The initial investigation resulted in a negative determination based on the findings that there have not been increased imports of services like or directly competitive with the financial services supplied by the subject firm, and there has not been a shift in the supply of services by the firm to a foreign country. In addition, the subject firm is not a supplier or downstream producer to a firm that employed a worker group eligible to apply for TAA.

The request for reconsideration states that “the workers at Chrysler Financial Services, Troy, Michigan were engaged in activities that initiated the need to produce automotive vehicles and automotive vehicle parts * * * multiple production facilities within the Chrysler Group has lost production due to imports which resulted in the decrease in sales” which contributed importantly to the workers' separations.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 21st day of September 2010.
Del Min Amy Chen,
Certifying Officer, Office of Trade Adjustment Assistance.

[FR Doc. 2010-24380 Filed 9-28-10; 8:45 am]

BILLING CODE 4510-FN-P